DEPARTMENT OF AGRICULTURE

Animal and Plant Health Inspection Service

[Docket No. APHIS-2008-0012]

Notice of Determination of the High Pathogenicity Avian Influenza Subtype H5N1 Status of Denmark and France

AGENCY: Animal and Plant Health Inspection Service, USDA.

ACTION: Notice.

SUMMARY: We are advising the public of our determination regarding the high pathogenicity avian influenza (HPAI) subtype H5N1 status of Denmark and France. Based on assessments of the animal health status of the two countries, which we made available to the public for review and comment through a previous notice, the Administrator has determined that the importation of live birds, poultry carcasses, parts or products of poultry carcasses, and eggs (other than hatching eggs) of poultry, game birds, and other birds from either Denmark or France presents a low risk of introducing HPAI H5N1 into the United States.

DATES: Effective Date: August 5, 2008.

FOR FURTHER INFORMATION CONTACT: Dr. Julia Punderson, Regionalization Evaluation Services-Import, Sanitary Trade Issues Team, National Center for Import and Export, VS, APHIS, 4700 River Road Unit 38, Riverdale, MD 20737-1231, (301) 734-4356.

SUPPLEMENTARY INFORMATION:

Background

On March 27, 2008, we published in the Federal Register (73 FR 16245-16246) a notice ¹ in which we announced the availability for review and comment of assessments of the animal health status of Denmark and France relative to high pathogenicity avian influenza (HPAI) subtype H5N1. In the assessments, titled “APHIS Analysis of the Status of High Pathogenicity Avian Influenza H5N1 in Denmark” (December 2007) and “APHIS Analysis of the Status of High Pathogenicity Avian Influenza H5N1 in France” (December 2007), we presented the results of our evaluation of the prevalence of HPAI H5N1 in domestic poultry in the two countries in light of the actions taken by Danish and French animal health authorities during and since the outbreaks of HPAI H5N1 that occurred in those two regions in 2006.

¹ To view the notice, the assessments, and the comment we received, go to http://www.regulations.gov/fdmspublic/component/main?main=DocketDetail&d=APHIS-2008-0012.

Our assessments concluded that both Denmark and France had adequate detection and control measures in place at the time of the outbreak, that they have been able to effectively control and eradicate HPAI H5N1 in their domestic poultry populations since that time, and that both Danish and French animal health authorities have control measures in place to rapidly identify, control, and eradicate the disease should it be reintroduced into Denmark or France in either wild birds or domestic poultry.

We solicited comments on the notice for 30 days ending on April 28, 2008. We received one comment on our assessments, from the chief veterinary officer of Denmark. The commenter agreed with our findings, but suggested several nonsubstantive changes to our assessment of Denmark. We concur with the points raised by the commenter, and have updated the assessment accordingly. The updated assessment may be viewed on the Regulations.gov Web site.²

² See footnote 1.

In our March 2008 notice we stated that, if we could identify no additional risk factors that would indicate that domestic poultry in either Denmark or France continue to be affected with HPAI H5N1 by the end of the comment period, we would conclude that the importation of live birds, poultry carcasses, parts or products of poultry carcasses, and eggs (other than hatching eggs) of poultry, game birds, or other birds from either Denmark or France presents a low risk of introducing HPAI H5N1 into the United States. Based on the absence of adverse comments received during the comment period, we have decided that no additional risk factors exist.

Therefore we are removing our prohibition on the importation of these products from Denmark and France into the United States. Specifically:

• We are no longer requiring that processed poultry products from Denmark and France be accompanied by a VS import permit and government certification confirming that the products have been treated according to APHIS requirements;

• We are allowing unprocessed poultry products from Denmark and France to enter the United States in passenger luggage; and

• We are removing restrictions regarding the regions in Denmark and France from which processed poultry products may originate in order to be allowed entry into the United States in passenger luggage.

However, live birds from Denmark and France are still subject to the inspections at ports of entry and post-importation quarantines set forth in 9 CFR part 93, unless granted an exemption by the Administrator or destined for diagnostic purposes and accompanied by a limited permit.

Done in Washington, DC, this 15th day of July 2008.
Kevin Shea,
Acting Administrator, Animal and Plant Health Inspection Service.

[FR Doc. E8-16586 Filed 7-18-08; 8:45 am]

BILLING CODE 3410-34-P